FEDERAL MARITIME COMMISSION

Ocean Transportation Intermediary License; Reissuances

Notice is hereby given that the following Ocean Transportation Intermediary licenses have been reissued by the Federal Maritime Commission pursuant to section 19 of the Shipping Act of 1984, as amended by the Ocean Shipping Reform Act of 1998 (46 U.S.C. app. 1718) and the regulations of the Commission pertaining to the licensing of Ocean Transportation Intermediaries, 46 CFR 515.

License No. | Name/Address | Date reissued
16587N | Fescargo Corporation, 1145 W. Walnut Street, Compton, CA 90220 | March 15, 2001
4607F | Jolaco Maritime Services Inc., 3620 Willow Bend, Suite 1102, Houston, TX 77054 | January 7, 2001
11365F | Seawinds Freight Services, Inc., 601 Airport Blvd., Unit B, South San Francisco, CA 94080 | February 28, 2001

Sandra L. Kusumoto,
Director, Bureau of Consumer Complaints and Licensing .

[FR Doc. 01-11682 Filed 5-8-01; 8:45 am]

BILLING CODE 4910-81-P